NUCLEAR REGULATORY COMMISSION

[Docket No. 50-333; NRC-2014-0034]

James A. FitzPatrick Nuclear Power Plant, LLC

AGENCY: Nuclear Regulatory Commission.

ACTION: 10 CFR 2.206 request; receipt.

SUMMARY: The U.S. Nuclear Regulatory Commission (NRC) is giving notice that by petition dated July 25, 2013, David L. Lochbaum, on behalf of the Alliance for Green Economy, Beyond Nuclear, Citizen's Awareness Network, and Union of Concerned Scientists (together referred to as petitioners) has requested that the NRC take enforcement action with regard to James A. FitzPatrick Nuclear Power Plant. The petitioners' requests are included in the SUPPLEMENTARY INFORMATION section of this document.

ADDRESSES: Please refer to Docket ID NRC-2014-0034 when contacting the NRC about the availability of information regarding this document. You may access publicly-available information related to this document using any of the following methods:

• Federal Rulemaking Web site: Go to http://www.regulations.gov and search for Docket ID NRC-2014-0034. Address questions about NRC dockets to Carol Gallagher; telephone: 301-287-3422; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: On July 25, 2013, the petitioners requested that the NRC take action with regard to James A. FitzPatrick Nuclear Power Plant (ADAMS Accession No. ML13217A061). The petitioners requested that the NRC take enforcement action by imposing a regulatory requirement that all the tubes in the James A. FitzPatrick Nuclear Power Plant's condenser be replaced prior to the restart of the plant from its fall 2014 refueling outage.

As the basis for this request, the petitioners stated that the enforcement action is needed to protect the public from the owner of the plant opting to defer correcting a potential safety problem. James A. Fitzpatrick Nuclear Power Plant is experiencing abnormally high occurrences of condenser tube failures. The condenser tube leaks could cause the normal heat sink to become unavailable, which in turn can complicate the operator's response to a reactor shutdown. The petitioners pointed out that the NRC's reactor oversight process also recognizes the elevated risk associated with a reactor shutdown with complications. Operating experience indicates that condenser tube leaks have contaminated the reactor coolant with impurities from the condenser cooling water and caused extensive damage to nuclear power plant components. The petitioners explained their concerns with comparison of historical data of U.S plants' condenser tube leaks that showed that the James A. FitzPatrick Nuclear Power Plant has experienced over 30 percent of the condenser tube leak events of the entire U.S. fleet in the past decade.

The request is being treated pursuant to Title 10 of the Code of Federal Regulations (10 CFR) 2.206 of the Commission's regulations. The request has been referred to the Director of the Office of Nuclear Reactor Regulation. As provided by 10 CFR 2.206, appropriate action will be taken on this petition within a reasonable time. The petitioner and the co-petitioners met with NRC's Petition Review Board (PRB) on November 13, 2013 (transcript at ADAMS Accession No. ML14036A234) to further discuss their concerns. The results of that discussion were considered in the board's determination regarding the petitioner's request for action and in establishing the schedule for the review of the petition. A copy of the petition is available for inspection under ADAMS Accession No. ML13217A061.

Dated at Rockville, Maryland, this 12th day of February 2014.
For the Nuclear Regulatory Commission.
Jennifer Uhle,
Deputy Director, Office of Nuclear Reactor Regulation.

[FR Doc. 2014-04208 Filed 2-25-14; 8:45 am]

BILLING CODE 7590-01-P